ENVIRONMENTAL PROTECTION AGENCY

[EPA-HQ-OPP-2016-0122; FRL-10014-20-OMS]

Information Collection Request Submitted to OMB for Review and Approval; Comment Request; Notice of Arrival of Pesticides and Devices Under Section 17(c) of FIFRA (Renewal)

AGENCY: Environmental Protection Agency (EPA).

ACTION: Notice.

SUMMARY: The Environmental Protection Agency (EPA) has submitted an information collection request (ICR), Notice of Arrival of Pesticides and Devices under section 17(c) of FIFRA (EPA ICR Number 0152.13 and OMB Control Number 2070-0020) to the Office of Management and Budget (OMB) for review and approval in accordance with the Paperwork Reduction Act. This is a proposed extension of the ICR, which is currently approved through December 31, 2020. Public comments were previously requested via the Federal Register on May 8, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before February 1, 2021.

ADDRESSES: Submit your comments to EPA, referencing Docket ID Number EPA-HQ-OPP-2016-0122, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Connie Hernandez, FEAD (7506P), Office of Pesticide Programs, Environmental Protection Agency, 1200 Pennsylvania Ave. NW, Washington, DC 20460-0001; telephone number: (703) 305-5190; email address: hernandez.connie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The U.S. Customs and Border Protection (Customs) regulations at 19 CFR 12.112 require that an importer desiring to import a pesticide or device into the United States shall, prior to the shipment's arrival in the United States, submit a Notice of Arrival (NOA) of Pesticides and Devices (EPA Form 3540-1 or its Customs-authorized electronic equivalent) to EPA. Once EPA receives the NOA, EPA will determine the disposition of the shipment upon its arrival in the United States. Upon completing its review, the EPA response is sent to the importer of record or licensed customs broker, who must present the NOA to Customs upon arrival of the shipment at the port of entry. This is necessary to ensure that EPA is notified of the arrival of pesticides and pesticidal devices as required under section 17(c) of the Federal Insecticide, Fungicide, and Rodenticide Act (FIFRA), and that EPA has the ability to examine such shipments to determine compliance with FIFRA. Customs compares entry documents for the shipment with the NOA and notifies the EPA regional office of any discrepancies. Alternatively, importers may submit NOA information electronically through Customs' Automated Commercial Environment (ACE). Most of the electronic filings are automatically processed, and an early indication is provided to the filer if the initial reporting requirements have been met and if the shipment can be released upon arrival at the port of entry. For those filings that do not meet the reporting requirements, automatic checks will be performed to notify the filer of errors. For filings that require non-automated checks, EPA staff can review and provide feedback notifications through ACE to the filer on what information is needed that has not been provided.

Form Numbers: None.

Respondents/Affected Entities: Pesticide importers, which includes many types of business entities ranging from Commercial and Institutional Building Construction (NAICS 236220) to Pesticide and Other Agricultural Chemical Manufacturing (NAICS 325300) and even Public Administration: Executive Offices (NAICS 921110). Other business and institutions that import pesticides include Agriculture, Forestry, Fishing and Hunting (Sector 11), Wholesale Trade, (Sector 42).

Respondent's obligation to respond: Mandatory (FIFRA sections 3 and 25; 40 CFR 152.25(f)).

Estimated number of respondents: 92,133 (total).

Frequency of response: On occasion.

Total estimated burden: 40,880 hours (per year). Burden is defined at 5 CFR 1320.03(b).

Total estimated cost: $ 2,753,522 (per year), includes $0 annualized capital or operation & maintenance costs.

Changes in the estimates: There is an increase of 24,540 hours in the total estimated respondent burden compared with the ICR currently approved by OMB. This increase is due to an increase in the annual number of NOAs submitted. The new electronic system for submitting NOA filings, ACE, has contributed to the increase in the number of NOAs. The annual number of NOAs submitted to EPA increased from 38,000 for the previous ICR renewal to 92,133 for this ICR renewal. The average burden hours per response increased slightly from the previous ICR renewal of 0.43 hours to the current 0.44 per response. This change is an adjustment.

Courtney Kerwin,
Director, Regulatory Support Division.

[FR Doc. 2020-29098 Filed 12-30-20; 8:45 am]

BILLING CODE 6560-50-P